DEPARTMENT OF COMMERCE

International Trade Administration

[A-351-841]

Polyethylene Terephthalate Film, Sheet, and Strip From Brazil: Rescission of Antidumping Duty Administrative Review; 2012-2013

AGENCY: Enforcement and Compliance, International Trade Administration, Department of Commerce.

SUMMARY: The Department of Commerce (the Department) is rescinding the administrative review of the antidumping duty order on polyethylene terephthalate film, sheet, and strip (PET film) from Brazil for the period November 1, 2012 through October 31, 2013.

DATES: Effective Date: May 20, 2014.

FOR FURTHER INFORMATION CONTACT: Tyler Weinhold or Robert James, Enforcement and Compliance, International Trade Administration, U.S. Department of Commerce, 14th Street and Constitution Avenue NW., Washington, DC 20230; telephone (202) 482-1121 or (202) 482-0649, respectively.

SUPPLEMENTARY INFORMATION: On December 30, 2013, based on a timely request by DuPont Teijin Films, Mitsubishi Polyester Film, Inc. and SKC, Inc. (collectively, petitioners), the Department published in the Federal Register a notice of initiation of an administrative review of the antidumping duty order on PET film from Brazil covering the period November 1, 2012 through October 31, 2013.¹ The review covers one firm, Terphane, Ltda. (Terphane). On March 31, 2014, petitioners withdrew their request for review of Terphane.

¹ See Initiation of Antidumping Duty and Countervailing Duty Administrative Reviews, and Request for Revocation, in Part, 78 FR 79392 (December 30, 2013).

Rescission of Review

Pursuant to 19 CFR 351.213(d)(1), the Department will rescind an administrative review if the party that requested the review withdraws its request within 90 days of the date of publication of the notice of initiation of the requested review. Petitioners withdrew their request within the 90-day deadline.² No other party requested an administrative review of this antidumping duty order. As a result, we are rescinding the administrative review of PET film from Brazil for the period November 1, 2012 through October 31, 2013.

² The 90-day deadline fell on Sunday, March 30, 2014; therefore, petitioners had until the next business day, or Monday, March 31, 2014, to withdraw their request for review.

Assessment

The Department will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). The Department intends to issues appropriate assessment instructions to CBP 15 days after the publication of this notice.

Notifications

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

This notice also serves as a final reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

This notice is issued and published in accordance with section 751 of the Tariff Act of 1930, as amended, and 19 CFR 351.213(d)(4).

Dated: May 13, 2014.
Christian Marsh,
Deputy Assistant Secretary for Antidumping and Countervailing Duty Operations.

[FR Doc. 2014-11673 Filed 5-19-14; 8:45 am]

BILLING CODE 3510-DS-P